DEPARTMENT OF HEALTH AND HUMAN SERVICES

Chronic Fatigue Syndrome Advisory Committee

AGENCY: Department of Health and Human Services, Office of the Secretary.

ACTION: Notice of meeting.

SUMMARY: As stipulated by the Federal Advisory Committee Act, the U.S. Department of Health and Human Services is hereby giving notice that the Chronic Fatigue Syndrome Advisory Committee (CFSAC) will hold a meeting. The meeting will be open to the public.

DATES: The meeting will be held on Monday, January 10, 2005, from 9 a.m. to 5 p.m.

ADDRESSES: Department of Health and Human Services, Hubert H. Humphrey Building, 200 Independence Avenue, SW., Room 800, Washington, DC 20201.

FOR FURTHER INFORMATION CONTACT: Dr. Larry E. Fields, Executive Secretary, Chronic Fatigue Syndrome Advisory Committee, Department of Health and Human Services, Hubert H. Humphrey Building, 200 Independence Avenue, SW., Room 719H, Washington, DC 20201; (202) 690-7694.

SUPPLEMENTARY INFORMATION: CFSAC was established on September 5, 2002 to replace the Chronic Fatigue Syndrome Coordinating Committee. CFSAC was established to advise, consult with, and make recommendations to the Secretary, through the Assistant Secretary for Health, on a broad range of topics including (1) the current state of knowledge and research about the epidemiology and risk factors relating to chronic fatigue syndrome, and identifying potential opportunities in these areas; (2) current and proposed diagnosis and treatment methods for chronic fatigue syndrome; and (3) development and implementation of programs to inform the public, health care professionals, and the biomedical, academic, and research communities about chronic fatigue syndrome advances.

The tentative agenda for this meeting is as follows:

9 a.m.—Chairperson

Call to Order

Request for Roll Call

Introduction and Opening Remarks

Approval of the Minutes of September 27, 2004

Discussion

9:20 a.m.—Executive Secretary

Roll Call

Summary of Public Comments

Membership Terms, Operational and Other Matters

Discussion

9:30 a.m.—Invited Speakers

Peter Rowe, MD

Professor, Johns Hopkins Children's Center

General Pediatrics and Adolescent Medicine

Chronic Fatigue Syndrome

Discussion

Chelsa Morgan

Florida

CFS: A Dilemma Facing Young People

Discussion

10:30 a.m.—Break

10:45 a.m.—Invited Speakers

Betty McConnell

New Jersey Chronic Fatigue Syndrome, Inc.

CFS: Pediatric Education

Discussion

American Academy of Pediatrics (Invited)

CFS: The AAP Perspective

Discussion

11:30 a.m.—Public Comment

12 noon—Lunch Break

1 p.m.—Ex Officio Member Updates

Discussion

Recommendations Update

Discussion

Subcommittee Updates

Disabilities: Lyle Lieberman, Chair

Education: Dr. Robert Patarca, Chair

Research: Dr. Nahid Mohagheghpour, Chair

Discussion

2:45 p.m.—Break

3 p.m.—New and Other CFS-related Matters

4 p.m.—Public Comment

4:30 p.m.—Wrap-up

5 p.m.—Adjournment

Public attendance at the meeting is limited to space available. Individuals must provide a photo ID for entry into the meeting. Individuals who plan to attend and need special assistance, such as sign language interpretation or other reasonable accommodations, should notify the designated contact person. Members of the public will have the opportunity to provide comments at the meeting. Pre-registration is required for public comment by December 27, 2004. Any individual who wishes to participate in the public comment session should call the telephone number listed in the contact information to register. Public comment will be limited to five minutes per speaker. Any members of the public who wish to have printed material distributed to CFSAC members should submit materials to the Executive Secretary, CFSAC, whose contact information is listed above prior to close of business December 27, 2004.

Dated: November 24, 2004.
Larry E. Fields,
Executive Secretary, Chronic Fatigue Syndrome Advisory Committee.

[FR Doc. 04-27118 Filed 12-9-04; 8:45 am]

BILLING CODE 4150-28-P